Title 3—

The President

Executive Order 13293 of March 28, 2003

Amendment to Executive Order 10448, Establishing the

National Defense Service Medal

By the authority vested in me as President of the United States and as Commander in Chief of the Armed Forces of the United States, and in order to extend eligibility for the award of the National Defense Service Medal to members in good standing in the Selected Reserve of the Armed Forces of the United States, it is hereby ordered that Executive Order 10448 of April 22, 1953, as amended, is further amended:

1. by inserting “or service in good standing in the Selected Reserve of the Armed Forces” after “active military service” each place it appears; and

2. by striking “additional period of active duty” and inserting in lieu thereof “additional period.”

Nothing in this order shall be construed to impair or otherwise affect the exercise of authority granted by Executive Order 12776 of October 8, 1991.

B

THE WHITE HOUSE,

March 28, 2003.

[FR Doc. 03-8108

Filed 3-31-03; 11:33 am]

Billing code 3195-01-P